DEPARTMENT OF STATE

[Public Notice 5565]

Arms Control and Nonproliferation Advisory Board (ACNAB) Meeting Notice

Closed Meeting

In accordance with section 10(a)(2) of the Federal Advisory Committee Act, 5 U.S.C. app 2 § 10(a)(2), the Department of State announces a meeting of the Arms Control and Nonproliferation Advisory Board (ACNAB) to take place on November 6, 2006, at the Department of State, Washington, DC.

Pursuant to section 10(d) of the Federal Advisory Committee Act, 5 U.S.C. app 2 § 10(d) and 5 U.S.C. 552b (c)(1), it has been determined that this Board meeting will be closed to the public in the interest of national defense and foreign policy because the Board will be reviewing and discussing matters classified in accordance with Executive Order 12958.

The purpose of the ACNAB is to provide the Department with a continuing source of independent advice on all aspects of arms control, disarmament and international security, and related aspects of public diplomacy. The agenda for this meeting includes classified discussions related to the Board's on-going studies on current U.S. policy and issues regarding the National Strategy to Combat Weapons of Mass Destruction, Counter-Terrorism, and Space Policy.

For more information, contact Matthew Zartman, Deputy Executive Director of the Arms Control and Nonproliferation Advisory Board, Department of State, Washington, DC 20520, telephone: (202) 736-4244.

Dated: September 29, 2006.
George W. Look,
Executive Director of the Arms Control and Nonproliferation Advisory Board, Department of State.

[FR Doc. E6-17022 Filed 10-12-06; 8:45 am]

BILLING CODE 4710-27-P